DEPARTMENT OF COMMERCE

U.S. Census Bureau

Proposed Information Collection; Comment Request; Quarterly Services Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 4, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Roderick Asekhauno, U.S. Census Bureau, 8K168A, Washington, DC 20233-6500, 301-763-2154, or Roderick.I.Asekhauno@census.gov.

SUPPLEMENTARY INFORMATION:

I. Abstract

The Quarterly Services Survey (QSS) covers employer firms with establishments located in the United States and classified in select service industries as defined by the North American Industry Classification System (NAICS). The QSS coverage currently includes all or parts of the following NAICS sectors: Utilities (excluding government owned); transportation and warehousing (except rail transportation and postal) services; information; finance and insurance (except funds, trusts, and other financial vehicles); real estate and rental and leasing; professional, scientific, and technical services; administrative and support and waste management and remediation services; educational services (except elementary and secondary schools, junior colleges, and colleges, universities, and professional schools); health care and social assistance; arts, entertainment, and recreation; and other services (except public administration). The primary estimates produced from the QSS are quarterly estimates of total operating revenue and the percentage of revenue by source. The survey also produces estimates of total operating expenses from tax-exempt firms in industries that have a large not-for-profit component. In addition, for hospitals, the survey produces estimates of the number of inpatient days and discharges and for select industries in arts, entertainment, and recreation sector, the survey produces estimates of admissions revenue. Beginning in March 2013, with the introduction of a new QSS sample, the QSS will also provide estimates of revenue for the accommodation subsector and estimates for interest income, loan fees, fees and commissions, financial planning and investment management, and net gains and losses from brokering for select finance and insurance industries.

Firms are selected for this survey using a stratified design with strata defined by industry, tax status, and estimated size based on annual revenue. The sample consists of approximately 18,000 firms and consists of a subsample of firms from the larger Service Annual Survey. Each quarter the QSS sample is updated to reflect the addition of new businesses and the removal of firms that have gone out-of-business.

The Bureau of Economic Analysis uses the survey results as input to its quarterly Gross Domestic Product (GDP) and GDP by industry estimates. The estimates provide the Federal Reserve Board and Council of Economic advisors with timely information to assess current economic performance. The Centers for Medicare and Medicaid Services use the QSS estimates to develop hospital-spending estimates for the National Accounts. Other government and private stakeholders also benefit from a better understanding of important cyclical components of our economy.

II. Method of Collection

We will collect this information by mail, facsimile, Internet, and a telephone follow-up.

III. Data

OMB Control Number: 0607-0907.

Form Number: QSS-1(A), QSS-1(E), QSS-2(A), QSS-2(E), QSS-3(A), QSS-3(E), QSS-4(A), QSS-4(E), QSS-5(A), QSS-5(E), QSS-6(A), QSS-6(E), QSS-7(A), QSS-7(E), QSS-8(A), QSS-8(E), QSS-9(A), QSS-9(E), QSS-0(A), QSS-0(E), QSS1P(A), QSS1P(E), QSS4f(A), QSS-4f(E).

Type of Review: Regular submission.

Affected Public: Businesses or other for-profit organizations, not-for-profit institutions, and government hospitals.

Estimated Number of Respondents: 23,500.

Estimated Time per Response: 15 minutes: QSS-1(A), QSS-1(E), QSS-2(A), QSS-2(E), QSS-3(A), QSS-3(E), QSS-5(A), QSS-5(E), QSS-6(A), QSS-6(E), QSS-7(A), QSS-7(E), QSS-8(A), QSS-8(E), QSS-9(A), QSS-9(E), QSS-0(A), QSS-0(E), QSS1P(A), QSS1P(E). 10 minutes: QSS-4(A), QSS-4(E), QSS4f(A), QSS-4f(E).

Estimated Total Annual Burden Hours: 20,900.

Estimated Total Annual Cost: $692,835.

Respondents Obligation: Voluntary.

Legal Authority: Title 13 U.S.C. 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 28, 2012.
Glenna Mickelson,
Management Analyst, Office of the Chief Information Officer.

[FR Doc. 2012-5189 Filed 3-2-12; 8:45 am]

BILLING CODE 3510-07-P